DEPARTMENT OF ENERGY

Federal Energy Regulatory Commission

[Project No. 1256-029-Nebraska]

Loup River Public Power District; Notice of Scoping Meetings and Site Visits

December 12, 2008.

a. Type of Filings: Notice of Intent to File License Applications for New Licenses; Pre-Application Documents; Commencement of Licensing Proceedings.

b. Project No.: 1256-029.

c. Dated Filed: October 16, 2008.

d. Submitted By: Loup River Public Power District (Loup Power District).

e. Name of Project: Loup River Hydroelectric Project No. 1256.

f. Location: The Loup River Hydroelectric Project is located on the Loup River in Nance and Platte Counties, Nebraska.

g. Filed Pursuant to: 18 CFR Part 5 of the Commission's Regulations.

h. Potential Applicant Contact: Neal Suess, President/CEO, Loup Power District, P.O. Box 988, 2404 15th Street, Columbus, Nebraska 68602 (866) 869-2087.

i. FERC Contact: Kim Nguyen (202) 502-6015 or via e-mail at kim.nguyen@ferc.gov.

j. Loup Power District filed Pre-Application Document (PAD) for the Loup River Project, including proposed process plan and schedule, with the Commission pursuant to 18 CFR 5.6 of the Commission's regulations.

k. Copies of the PAD and Scoping Document 1 (SD1) are available for review at the Commission in the Public Reference Room or may be viewed on the Commission's Web site (http://www.ferc.gov), using the “eLibrary” link. Enter the docket number, excluding the last three digits, in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filings and issuances related to these or other pending projects. For assistance, contact FERC Online Support.

l. With this notice, we are soliciting comments on SD1. All comments on SD1 should be sent to the address above in paragraph h. In addition, all comments on the PAD and SD1, study requests, requests for cooperating agency status, and all communications to Commission staff related to the merits of the potential applications (original and eight copies) must be filed with the Commission at the following address: Secretary, Federal Energy Regulatory Commission, 888 First Street, NE., Washington, DC 20426. All filings with the Commission relevant to the Loup River Hydroelectric Project must include on the first page, the project name (Loup River Project), and number (P-1256-029), and bear the heading, as appropriate, “Comments on Scoping Document 1.” Any individual or entity interested in commenting on SD1 must do so by February 10, 2009.

Comments on SD1 and other permissible forms of communications with the Commission may be filed electronically via the Internet in lieu of paper. The Commission strongly encourages electronic filings. See 18 CFR 385.2001(a)(1)(iii) and the instructions on the Commission's Web site (http://www.ferc.gov) under the “e-filing” link.

m. At this time, Commission staff intends to prepare a single Environmental Assessment for the project, in accordance with the National Environmental Policy Act.

Scoping Meetings

We will hold two scoping meetings for each project at the times and places noted below. The daytime meetings will focus on resource agency, Indian tribes, and non-governmental organization concerns, while the evening meetings are primarily for receiving input from the public. We invite all interested individuals, organizations, Indian tribes, and agencies to attend one or all of the meetings, and to assist staff in identifying particular study needs, as well as the scope of environmental issues to be addressed in the environmental document. The times and locations of these meetings are as follows:

Daytime Scoping Meeting

Date: Tuesday, January 13, 2009.

Time: 9 a.m.

Location: Holiday Inn Express, 524 E. 23rd Street, Columbus, Nebraska 68601, (402) 564-2566.

Evening Scoping Meeting

Date: Monday, January 12, 2009.

Time: 7 p.m.

Location: same as daytime meeting.

SD1, which outlines the subject areas to be addressed in the environmental document, has been mailed to the individuals and entities on the Commission's mailing list. Copies of SD1 will be available at the scoping meetings, or may be viewed on the Web at http://www.ferc.gov, using the “eLibrary” link. Follow the directions for accessing information in paragraph k. Depending on the extent of comments received, a Scoping Document 2 (SD2) may or may not be issued.

Site Visits

The Loup Power District and Commission staff will conduct a site visit of the key project facilities on Monday, January 12, 2009, starting at 9 a.m. Those wishing to participate should meet at 8:45 a.m. at: Loup Power District Main Office, 2404 15th Street, Columbus, Nebraska 68602.

To appropriately accommodate persons interested in attending the site visit, participants should contact Ron Ziola at (402) 564-3171 or e-mail rziola@loup.com by January 5, 2009. The Loup Power District will provide transportation from their Main Office to the project site and lunch for the site visit. Participants should dress appropriately for outdoor, winter elements. In the event of inclement weather, participants can check the Loup Power District's Relicensing Hotline at (866) 869-2087 for updates on the site visit.

Scoping Meeting Objectives

At the scoping meetings, staff will: (1) Present the proposed list of issues to be addressed in the EA; (2) review and discuss existing conditions and resource agency management objectives; (3) review and discuss existing information and identify preliminary information and study needs;

(4) review and discuss the process plan and schedule for pre-filing activity that incorporates the time frames provided for in Part 5 of the Commission's regulations and, to the extent possible, maximizes coordination of federal, state, and tribal permitting and certification processes; and (5) discuss requests by any federal or state agency or Indian tribe acting as a cooperating agency for development of an environmental document.

Meeting participants should come prepared to discuss their issues and/or concerns. Please review the Pre-Application Document in preparation for the scoping meetings. Directions on how to obtain a copy of the PAD and SD1 are included in item k of this notice.

Scoping Meeting Procedures

The scoping meetings will be recorded by a stenographer and will become part of the formal Commission records for the projects.

n. A notice of intent to file license application, filing PAD, solicitation of comments on the PAD and SD1, solicitation of study requests, and commencement of proceedings will be issued by December 19, 2008, setting the date for filing comments on the PAD and study requests in accordance with Commission regulations and the proposed process plan.

Kimberly D. Bose,
Secretary.

[FR Doc. E8-30144 Filed 12-18-08; 8:45 am]

BILLING CODE 6717-01-P